COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by nonprofit agency employing persons who are blind or have other severe disabilities, and delete products and services previously furnished by such agencies.

Comments Must be Received on or Before: 4/17/2016.

ADDRESSES: Committee for Purchase From People Who Are Blind or Severely Disabled, 1401 S. Clark Street, Suite 715, Arlington, Virginia, 22202-4149.

For Further Information or to Submit Comments Contact: Patricia Briscoe, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from the nonprofit agencies employing persons who are blind or have other severe disabilities.

The following products are proposed for addition to the Procurement List for production by the nonprofit agency listed:

Products

NSN(s)—Product Name(s):

5180-00-NIB-0018—Type I, Carpenter's Tool Kit Squad

5180-00-NIB-0019—Type II, Carpenter's Supplemental Tool Kit

5180-00-NIB-0020—Type III, Carpenter's Tool Kit

5180-00-NIB-0021—Type IV, Electrician's Tool Kit

5180-00-NIB-0022—Type V, Mason and Concrete Tool Kit

5180-00-NIB-0023—Type VI, Plumber's and Pipefitter's Tool Kit

Mandatory Source of Supply: Industries for the Blind, Inc., West Allis, WI

Mandatory for: 100% of the requirement of the U.S. Army

Contracting Activity: Department of the Army, W4GG HQ U.S. Army TACOM, Warren, MI

Distribution: C-List

Deletions

The following products and services are proposed for deletion from the Procurement List:

Products

NSN—Product Name: 8940-00-131-8761—Dessert Powder, Pudding, Instant, Vanilla

Mandatory Source of Supply: UNKNOWN

Contracting Activity: Defense Logistics Agency Troop Support, Philadelphia, PA

NSN(s)—Product Name(s): 7510-00-NIB-0573—Custom Planners & Accessory Kit

7520-01-496-5478—Custom Planners & Accessory Kit

Mandatory Source of Supply: The Chicago Lighthouse for People Who Are Blind or Visually Impaired, Chicago, IL

Contracting Activity: General Services Administration, FSS Household and Industrial Furniture, Arlington, VA

NSN—Product Name: 6645-01-516-9630—Slimline Wall Clock—12″ Federal Logo—Putty Case

Mandatory Source of Supply: The Chicago Lighthouse for People Who Are Blind or Visually Impaired, Chicago, IL

Contracting Activity: General Services Administration, New York, NY

NSN(s)—Product Name(s): 6645-04-000-3339—Clock, Wall (Postal Service Logo)

6645-04-000-3340

6645-04-000-3341

6645-04-000-3342

6645-04-000-3344

6645-04-000-4260

6645-04-000-4261

6645-04-000-4262

6645-04-000-4263

6645-04-000-4264

6645-04-000-4265

6645-04-000-4267

6645-04-000-4268

Mandatory Source of Supply: The Chicago Lighthouse for People Who Are Blind or Visually Impaired, Chicago, IL

Contracting Activity: U.S. Postal Service, Washington, DC

NSN(s)—Product Name(s):

7920-01-482-6034—Cloth, Cleaning, High Performance, Microfiber, Industrial Weight, Blue

7920-01-482-6040—Cloth, Cleaning, High Performance, Microfiber, Blue

7920-01-482-6042—Cloth, Cleaning, High Performance, Microfiber, Electronics, Platinum

7920-01-482-6045—Cloth, Cleaning, Microfiber, Lens, Blue, 24/BX

Mandatory Source of Supply: LC Industries, Inc., Durham, NC

Contracting Activity: General Services Administration, Fort Worth, TX

NSN(s)—Product Name(s):

MR 350—Containers, Storage, 12PG

MR 362—Set, Salad Bowl, Event Serverware

MR 363—Set, Pitcher and Tumbler, Event Serverware

MR 364—Set, Ice Bucket and Goblet, Event Serverware

MR 850—Spinner, Salad

MR 1194—Bottle, Water, Reusable, 26oz

Mandatory Source of Supply: Industries for the Blind, Inc., West Allis, WI

Contracting Activity: Defense Commissary Agency, Fort Lee, VA

Services

Service Type: Janitorial/Custodial Service

Service is Mandatory For: US Border Patrol, Lynden Station, 8334 Guide Meridian Lynden, WA

Mandatory Source of Supply: Lake Whatcom Residential and Treatment Center, Bellingham, WA

Contracting Activity: U.S. Customs and Border Protection, Border Enforcement Contracting Division, Washington, DC

Service Type: Mailroom Operation Service

Service is Mandatory For: U.S. Customs House: 220 NE. 8th Avenue, Portland, OR

Mandatory Source of Supply: Portland Habilitation Center, Inc., Portland, OR

Contracting Activity: Dept of the Army, W071 ENDIST PORTLAND, Portland, OR

Service Type: Janitorial Service

Service is Mandatory For: Bldgs 736, 658 & 12737; Fort. Richardson AK, Corner of Quartermaster & D Streets (#); 5th St, Fort Richardson, AK

Mandatory Source of Supply: MQC Enterprises, Inc., Anchorage, AK

Contracting Activity: Dept of the Army, W2SN ENDIST ALASKA, Anchorage, AK

Service Type: Packaging Service

Service is Mandatory For: 304 Terry Avenue, Hurlburt Field AFB, FL

Mandatory Source of Supply: Lakeview Center, Inc., Pensacola, FL

Contracting Activity: Dept of the Air Force, FA4417 1 SOCONS LGC, Hurlburt Field AFB, FL

Service Type: Preparation of Oil Sample Kits

Service is Mandatory For: Pensacola Naval Air Station, Pensacola, FL

Mandatory Source of Supply: Lakeview Center, Inc., Pensacola, FL

Contracting Activity: Dept of the Navy, Naval Air Warfare Center Air Div, Patuxent River, MD

Service Type: Janitorial/Custodial Service

Service is Mandatory For: Willow Grove Air Reserve Station Center, Bldg. 167, Willow Grove, PA

Mandatory Source of Supply: The Chimes, Inc., Baltimore, MD

Contracting Activity: Dept of the Air Force, FA7014 AFDW PK, Andrews AFB, MD

Service Type: Furnishings Management Service

Service is Mandatory For: Dover Air Force Base: 639 Atlantic Street, Dover Air Force Base, DE

Mandatory Source of Supply: The Chimes, Inc., Baltimore, MD

Contracting Activity: Dept of the Air Force, FA4497 436 CONS LGC, Dover AFB, DE

Service Type: Food Service Attendant Service

Service is Mandatory For: Hanscom Air Force Base, Hanscom AFB, MA

Mandatory Source of Supply: Work, Incorporated, Dorchester, MA

Contracting Activity: Dept of the Air Force, FA2835 AFLCMC HANSCOM PZI, Hanscom AFB, MA

Patricia Briscoe,
Deputy Director, Business Operations, (Pricing and Information Management).

[FR Doc. 2016-06181 Filed 3-17-16; 8:45 am]

BILLING CODE 6353-01-P